SECURITIES AND EXCHANGE COMMISSION

[OMB Control No. 3235-0007]

Agency Information Collection Activities; Proposed Collection; Comment Request; Extension: Rule 13e-3 (Schedule 13e-3)

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“Commission”) is soliciting comments on the collection of information summarized below. The Commission plans to submit this existing collection of information to the Office of Management and Budget for extension and approval. The Commission also is requesting approval from OMB to designate this existing collection of information (OMB Control No. 3235-0007) as a “common form” for purposes of PRA submissions ¹ because the Board of Governors of the Federal Reserve System uses this information collection (under OMB Control No. 7100-0091).

¹ See ROCIS PRA Module User Guide v. 8.2, at 110-111 (Mar. 2024), available at https://www.rocis.gov/rocis/viewResources.do (“A `common form' is an information collection that can be used by two or more agencies, or government-wide, for the same purpose. The Common Forms Module [in ROCIS] allows a `host' agency to obtain [OMB] approval of an information collection for use by one or more `using' agencies. After OMB grants approval, any prospective using agency that seeks to collect identical information for the same purpose can obtain approval to use the `common form' by providing its agency-specific information to OMB (e.g., burden estimates and number of respondents). . . . The host agency will indicate in the Federal Register notices that it is requesting approval of a common form and, if known, identify other agencies that may use the information collection. Both the Federal Register notices and the ICR should account only for the burden imposed by the host agency's use of the common form. Once the host agency has received approval from OMB, any agency will be able to request OMB approval for its use of the common form in ROCIS by providing its agency specific information to OMB (e.g., burden estimates and number of respondents). Additional public notice by those agencies will not be required.”).

Rule 13e-3 (17 CFR 240.13e-3) and Schedule 13E-3 (17 CFR 240.13e-100) prescribe the filing, disclosure, and dissemination requirements in connection with certain going private transactions by an issuer or an affiliate. The information required by Rule 13e-3 and Schedule 13E-3 is intended to ensure investors are appropriately informed in connection with certain going private transactions. We estimate that Schedule 13E-3 is filed once per year by approximately 41 issuers annually and that it takes issuers approximately 138.70 hours per response. We estimate that 25% of the 138.70 hours per response is carried internally by the issuer for a total annual reporting burden of 1,422 hours (138.70 hours per response × 25% × 41 responses). We estimate that 75% of the 138.70 hours per response is carried externally by outside professionals retained by the issuer at an estimated rate of $600 per hour for a total annual cost burden of $2,559,015 (138.70 hours per response × 75% × $600 per hour × 41 responses).

An agency may not conduct or sponsor, and a person is not required to respond to, a collection of information unless it displays a currently valid OMB control number.

Written comments are invited on: (a) whether this proposed collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology.

Please direct your written comments on this 60-Day Collection Notice to Austin Gerig, Director/Chief Data Officer, Securities and Exchange Commission, c/o Tanya Ruttenberg via email to PaperworkReductionAct@sec.gov by March 10, 2026. There will be a second opportunity to comment on this SEC request following the Federal Register publishing a 30-Day Submission Notice.

Dated: January 7, 2026.
Sherry R. Haywood,
Assistant Secretary.

[FR Doc. 2026-00275 Filed 1-8-26; 8:45 am]

BILLING CODE 8011-01-P